DEPARTMENT OF THE INTERIOR

Fish and Wildlife Service

[FWS-R3-ES-2014-N093; FX3ES11130300000-145-FF03E00000]

Endangered and Threatened Wildlife and Plants; Initiation of 5-Year Status Reviews of Nine Listed Animal and Two Listed Plant Species

AGENCY: Fish and Wildlife Service, Interior.

ACTION: Notice of initiation of reviews; request for information.

SUMMARY: We, the U.S. Fish and Wildlife Service, are initiating 5-year status reviews under the Endangered Species Act of 1973, as amended (Act), for nine animal and two plant species. A 5-year status review is based on the best scientific and commercial data available at the time of the review; therefore, we are requesting submission of any such information that has become available since the last review for the species.

DATES: To ensure consideration, please send your written information by September 8, 2014. However, we will continue to accept new information about any listed species at any time.

ADDRESSES: For how to send comments or information for each species, see the table in the SUPPLEMENTARY INFORMATION section.

FOR FURTHER INFORMATION CONTACT: To request information, contact the appropriate person in the table in the SUPPLEMENTARY INFORMATION section. Individuals who are hearing impaired or speech impaired may call the Federal Relay Service at 800-877-8339 for TTY assistance.

SUPPLEMENTARY INFORMATION: We are initiating 5-year status reviews under the Endangered Species Act of 1973, as amended (Act), for nine animal and two plant species: Gray bat (Myotis grisescens), Indiana bat (Myotis sodalis), Piping plover-Great Lakes breeding population (Charadrius melodus), Piping plover-Atlantic Coast and Northern Great Plains populations (Charadrius melodus), Scioto madtom (Noturus trautmani), Curtis' Pearlymussel (Epioblasma florentina curtisi), Purple cat's paw (Epioblasma (=dysnomia) obliquata obliquata), Scaleshell mussel (Leptodea leptodon), Higgins eye (Lampsilis higginsii), Pitcher's thistle (Cirsium pitcheri), and Lakeside daisy (Hymenoxys herbacea (=H. acaulis var. glabra)).

Why do we conduct 5-year reviews?

Under the Act (16 U.S.C. 1531 et seq.), we maintain Lists of Endangered and Threatened Wildlife and Plants (which we collectively refer to as the List) in the Code of Federal Regulations (CFR) at 50 CFR 17.11 (for animals) and 17.12 (for plants). Section 4(c)(2)(A) of the Act requires us to review each listed species' status at least once every 5 years. Our regulations at 50 CFR 424.21 require that we publish a notice in the Federal Register announcing those species under active review. For additional information about 5-year reviews, go to http://www.fws.gov/endangered/what-we-do/recovery-overview.html, scroll down to “Learn More about 5-Year Reviews,” and click on our factsheet.

What information do we consider in our review?

A 5-year review considers all new information available at the time of the review. In conducting these reviews, we consider the best scientific and commercial data that have become available since the listing determination or most recent status review, such as:

(A) Species biology, including but not limited to population trends, distribution, abundance, demographics, and genetics;

(B) Habitat conditions, including but not limited to amount, distribution, and suitability;

(C) Conservation measures that have been implemented that benefit the species;

(D) Threat status and trends in relation to the five listing factors (as defined in section 4(a)(1) of the Act); and

(E) Other new information, data, or corrections, including but not limited to taxonomic or nomenclatural changes, identification of erroneous information contained in the List, and improved analytical methods.

Any new information will be considered during the 5-year review and will also be useful in evaluating the ongoing recovery programs for the species.

What species are under review?

This notice announces our active 5-year status reviews of the species in the following table.

Common name | Scientific name | Listing status | Where listed | Final listing rule (Federal Register citation and publication date) | Contact person, phone, email | Contact person's U.S. mail address
ANIMALS
Gray bat | Myotis grisescens | E | U.S.A. (AL, AR, FL, GA, IL, IN, KS, KY, MO, OK, TN, VA, WV) | 41 FR 17736; April 28, 1976 | Ms. Shauna Marquardt, shauna_marquardt@fws.gov; 573-234-2132, x174 | USFWS, 101 Park DeVille Drive, Suite A; Columbia, MO 65203.
Indiana bat | Myotis sodalis | E | U.S.A. (AL, AR, CT, GA, IL, IN, IA, KY, MD, MI, MS, MO, NJ, NY, NC, OH, OK, PA, TN, VT, VA, WV) | 32 FR 4001; March 11, 1967 | Mr. Andrew King, Indiana_bat@fws.gov; 812-334-4261, x1216 | USFWS, 620 S. Walker Street Bloomington, IN 47403.
Piping plover (Great Lakes breeding population) | Charadrius melodus | E | U.S.A. (Great Lakes watershed in IL, IN, MI, MN, MS, NY, OH, PA, WI) | 50 FR 50726; December 11, 1985 | Michigan, Wisconsin, Minnesota, Illinois, Indiana, Ohio, Pennsylvania, and Ontario: Mr. Vincent Cavalieri, vincent_cavalieri@fws.gov; 517-351-5467 | USFWS, 2651 Coolidge Road, Suite 101; East Lansing, MI 48823.
Piping plover (Atlantic Coast and Northern Great Plains populations) | Charadrius melodus | T | Entire, except those areas where listed as endangered above | 50 FR 50726; December 11, 1985 | Montana, North Dakota, South Dakota, Iowa, Nebraska, Colorado, Kansas, Alberta, Saskatchewan, and Manitoba: Ms. Carol Aron, carol_aron@fws.gov; 701-250-4481 | USFWS, 3425 Miriam Avenue, Bismarck, ND 58501.
|  |  |  |  | North Carolina, South Carolina, Georgia, Bahamas, Cuba, Puerto Rico, and other Caribbean Islands: Ms. Melissa Bimbi, melissa_bimbi @fws.gov; 843-727-4707 | USFWS, P.O. Box 33726, Raleigh, NC 27636-3726
|  |  |  |  | Texas and Mexico: Ms. Robyn Cobb, robyn_cobb@fws.gov; 361-994-9005 | USFWS, Ecological Services Field Office, c/o TAMUCC, 6300 Ocean Drive—USFWS, Unit 5837; Corpus Christi, TX 78412-5837.
|  |  |  |  | Maine, New Hampshire, Massachusetts, Rhode Island, Connecticut, New York, New Jersey, Delaware, Maryland, Virginia, Newfoundland, Quebec, Nova Scotia, Prince Edward Island, New Brunswick, and St. Pierre and Miquelon (France), any area not listed above, and information pertinent to multiple regions: Ms. Anne Hecht, anne_ hecht@fws.gov; 978-443-4325 | USFWS, 73 Weir Hill Road, Sudbury, MA 01776.
Scioto madtom | Noturus trautmani | E | U.S.A. (OH) | 40 FR 44149; September 25, 1975 | Ms. Angela Boyer, angela_boyer@fws.gov; 614-416-8993, x22 | USFWS, 4625 Morse Road, Suite 104; Columbus, OH 43230.
Curtis' Pearlymussel* | Epioblasma florentina curtisi | E | U.S.A. (AR, MO) | 41 FR 24064; June 14, 1976 | Mr. Andy Roberts, andy_roberts@fws.gov; 573-234-2132, x110 | USFWS, 101 Park DeVille Drive, Suite A; Columbia, MO 65203.
Purple cat's paw | Epioblasma (=dysnomia) obliquata obliquata) | E | U.S.A. (AL, IL, IN, KY, OH, TN) | 55 FR 28209; July 10, 1990 | Ms. Angela Boyer, Angela_Boyer@fws.gov; 614-416-8993, x22 | USFWS, 4625 Morse Road, Suite 104; Columbus, OH 43230.
Scaleshell mussel* | Leptodea leptodon | E | U.S.A. (AL, AR, IA, IL, IN, KY, MN, MO, OH, OK, SD, TN, WI) | 66 FR 51322; October 9, 2001 | Mr. Andy Roberts; andy_roberts@fws.gov; 573-234-2132, x110 | USFWS, 101 Park DeVille Drive, Suite A; Columbia, MO 65203.
Higgins eye | Lampsilis higginsii | E | U.S.A. (IA, IL, MN, MO, NE, WI) | 41 FR 24064; June 14, 1976 | Mr. Phil Delphey, phil_delphey@fws.gov; 612-725-3548 | USFWS, 4101 E. 80th Street, Bloomington, MN 55425.
PLANTS
Cirsium pitcher* | Pitcher's thistle* | T | U.S.A. (IL, IN, MI, WI); Canada (Ont.) | 53 FR 27137; July 18, 1988 | Mr. Vincent Cavalieri, vincent_cavalieri@fws.gov; 517-351-5467 | USFWS, 2651 Coolidge Road, Suite 101; East Lansing, MI 48823.
Hymenoxys herbacea (=H. acaulis var. glabra) | Lakeside daisy | T | U.S.A. (IL, MI, OH); Canada (Ont.) | 53 FR 23742; June 23, 1988 | Ms. Angela Boyer, angela_boyer@fws.gov; 614-416-8993, x22 | USFWS, 4625 Morse Road, Suite 104; Columbus, OH 43230.
* Species' 5-year review was previously initiated, but that review was never completed. We are reinitiating here to ensure that we have the most up-to-date information to complete the review.

Request for Information

To ensure that a 5-year review is complete and based on the best available scientific and commercial information, we request new information from all sources. See “What Information Do We Consider in Our Review?” for specific criteria. If you submit information, please support it with documentation such as maps, bibliographic references, methods used to gather and analyze the data, and/or copies of any pertinent publications, reports, or letters by knowledgeable sources.

How do I ask questions or provide information?

If you wish to provide information for any species listed above, please submit your comments and materials to the appropriate contact in the table above. You may also direct questions to those contacts. Individuals who are hearing impaired or speech impaired may call the Federal Relay Service at 800-877-8339 for TTY assistance.

Public Availability of Submissions

Before including your address, phone number, email address, or other personal identifying information in your comment, you should be aware that your entire comment—including your personal identifying information—may be made publicly available at any time. While you can ask us in your comment to withhold your personal identifying information from public review, we cannot guarantee that we will be able to do so.

Comments and materials received will be available for public inspection, by appointment, during normal business hours at the offices where the comments are submitted.

Authority

We publish this notice under the authority of the Endangered Species Act of 1973, as amended (16 U.S.C. 1531 et seq.).

Dated: June 30, 2014.
Lynn M. Lewis,
Assistant Regional Director, Ecological Services, Midwest Region.

[FR Doc. 2014-15867 Filed 7-7-14; 8:45 am]

BILLING CODE 4310-55-P